DEPARTMENT OF AGRICULTURE

Forest Service

Malheur National Forest, Prairie City Ranger District; Oregon; Cliff Knox Project

AGENCY: Forest Service, USDA.

ACTION: Notice of intent to prepare an environmental impact statement.

SUMMARY: The Malheur National Forest will prepare an environmental impact statement (EIS) to disclose the environmental effects of proposed vegetation and fuels treatments, wildlife habitat designations, and road activities in the Cliff Knox project area located on the Prairie City and Emigrant Creek Ranger Districts. Proposed actions include timber harvest, small diameter thinning, aspen and mountain mahogany restoration, landscape underburning, road activities to support vegetation and fuels treatments, and road system changes. The intent of the project is to restore forest health, reduce fuels, increase the forest's resilience to wildfires and other disturbance, and enhance fish and wildlife habitats.

DATES: Comments concerning the proposed action in this notice must be received by August 20, 2018. The draft EIS is expected in December 2018 and the final EIS is expected in June 2019.

ADDRESSES: The preferred method to submit comments is via email to: comments-pacificnorthwest-malheur-prairiecity@fs.fed.us. You may also submit comments via mail to Ed Guzman, District Ranger, Prairie City Ranger District, P.O. Box 337, Prairie City, OR 97869; via facsimile to 541-820-4844; or by hand delivery to the Prairie City Ranger District, 327 SW Front St., Prairie City, Oregon.

FOR FURTHER INFORMATION CONTACT: Kathy Schnider, District NEPA Planner, 327 SW Front St., P.O. Box 337, Prairie City, OR 97869. Phone: 541-820-3821. Email: kschnider@fs.fed.us. Individuals who use telecommunication devices for the deaf (TDD) may call the Federal Information Relay Service at 1-800-877-8339 between 8 a.m. and 8 p.m., eastern time, Monday through Friday.

SUPPLEMENTARY INFORMATION: The Cliff Knox Project encompasses approximately 40,000 acres across the Bluebucket Creek subwatershed (10,976 acres) and the Cliff Creek-Malheur River subwatershed (29,342 acres), and includes the Malheur River Inventoried Roadless Area and part of the Malheur River Wild and Scenic River corridor. The legal description for the planning area includes Townships 17 and 18 South and Ranges 33, 34, and 35 East, Willamette Meridian, Grant County, Oregon. The full scoping package is available on the Malheur National Forest website: https://www.fs.usda.gov/project/?project=50433.

Purpose and Need for Action

The project's purpose and need is represented by differences between existing and desired conditions based on forest plan management direction, other forest service policies, and best available science.

The purpose of the Cliff Knox Project is to improve forest health and increase resilience to drought, fire, insects and diseases, and other disturbances by moving the project area toward its historical (natural) range of variability in forest structure, tree density, species composition, and associated wildlife habitat. Additionally, there is an opportunity to contribute to the economic stability of local communities that depend on timber resources for their livelihood and move the forest transportation system toward a more environmentally and fiscally sustainable state.

Specifically, there is a need in the project area to:

(1) Increase forest resilience to insect and disease outbreaks and uncharacteristic wildfires by moving the landscape toward a more historical range of variability for structure, density, and species composition. This includes special consideration for the Malheur River Wild and Scenic River, the Malheur Inventoried Roadless Area, riparian habitat conservation areas, dedicated and replacement old growth stands, aspen and mountain mahogany stands, and connectivity corridors.

(2) Enhance landscape resilience to wildfire by restoring fuel profiles to types primarily conducive to surface fire, with special attention to lands adjacent to strategic roads and areas identified as wildland-urban interface.

(3) Increase public and firefighter safety in the event of a wildfire in the project area.

(4) Restore and promote open stands dominated by large trees and fire-tolerant tree species, which were historically dominant across the project area.

(5) Maintain existing old forest stands and promote old trees (greater than 150 years old) to increase their abundance over the long term.

(6) Restore and promote regeneration of hardwoods, including quaking aspen, mountain mahogany, and riparian hardwoods.

(7) Treat vegetation to improve characteristics of the Malheur River Inventoried Roadless Area as defined by the 2001 Roadless Area Conservation Rule (36 CFR 294.11).

(8) Increase water availability for native vegetation by reestablishing historical openings and grasslands, thinning overstocked stands, and removing encroaching juniper and other conifers where they did not historically occur.

(9) Improve quantity and quality of forage for large ungulates, especially in big-game winter range management areas.

(10) Reduce road related impacts to the watershed (aquatic and terrestrial habitat, and water quality).

(11) Improve existing road networks to provide access to the forest while meeting forest plan standards and guidelines as well as regulatory direction.

(12) Capture the economic value of forest products and other resources to support local economies and provide employment opportunities.

(13) Provide safe access to the forest for public health, enjoyment, and stewardship.

Proposed Action

To meet the purpose and need for the Cliff Knox Project and to move the project area toward desired conditions, the Malheur National Forest is proposing activities including timber harvest, small diameter thinning, aspen and mountain mahogany restoration, landscape underburning, road activities to support vegetation and fuels treatments, and road system changes.

Approximately 27,000 acres of vegetation and fuel treatments are proposed to increase forest resilience to insect and disease outbreaks and uncharacteristic wildfires; restore fuel profiles, promote development of old stands and trees; and restore quaking aspen, mountain mahogany, and riparian hardwoods (related to the need). Treatments include stand improvement commercial thinning, biomass removal (biomass material may be removed during logging operations, by hand, or with small equipment such as all-terrain vehicles or small excavators or forwarders), and small diameter thinning where stands are above the appropriate management zone for stand density. In areas of high tree mortality due to insect infestations, dead lodgepole and ponderosa pine trees in excess of wildlife standards for downed and dead trees may be salvaged. Additionally, 3 units are identified as potential tree tipping units, where large wood could be placed in streams. Proposed vegetation and fuel treatments are located across the project area to address the purpose and need, including within the Malheur Wild and Scenic River, Malheur River Inventoried Roadless Area, the wildland-urban interface and adjacent to strategic roads, and riparian habitat conservation areas. These treatments would help move forest structure, composition, and density toward more resilient vegetative conditions.

Landscape underburning on approximately 40,000 acres is proposed to reduce surface fuel loading, reduce ladder fuels, and raise canopy base height. Treated stands would see a combination of piled material burning and underburning. Those stands not mechanically treated would be managed exclusively with the use of underburning.

The proposed action includes wildlife habitat designations that include additions to replacement old growth (108 acres) and pileated woodpecker feeding areas (205 acres), establishment of connectivity corridors (4,950 acres) and wildlife habitat enhancement openings (1,020 acres). Preliminary connectivity corridors have been identified between late and old structure stands to allow for movement of old-growth dependent species. The goal of creating “connectivity” is to manage stands in corridors at higher canopy densities when compared to more intensively managed stands located outside of corridors. Habitat enhancement openings are proposed in areas where soil types point to a more open canopy in the past to create openings in coniferous forest to move areas that would have historically been more open towards desired vegetation communities. Most of these units are located in big-game winter range and are adjacent to or include existing openings.

Road activities to support vegetation and fuels treatments are also proposed to provide safe access and to reduce road-related impacts. Road maintenance and reconstruction for haul would occur on open or temporarily opened roads to provide safe access and adequate drainage. About 15 miles of temporary roads would be constructed to access some timber harvest units; these areas would be rehabilitated following use.

Multiple changes to the road system are proposed. This includes decommissioning about 9.5 miles of road that are not needed for future management actions and are either already in an overgrown state or are contributing to resource related impacts, such as delivering sediment to streams or disturbing wildlife. Also proposed is closing about 14 miles of currently open roads that may be needed for future management actions but are either currently in an overgrown state or contributing to resource related impacts, such as delivering sediment to streams or disturbing wildlife. Closed roads are to be left in a stable hydrologic state and are to be periodically maintained. The proposed action also includes confirming the previous administrative closure of 28 miles of road and opening about 2.5 miles of currently closed roads that show signs of moderate to high use, have little potential for resource impacts, and some of which provide access to dispersed camping sites, State and Bureau of Land Management lands, and permittee allotments. Additionally, the proposed action includes decomissioning and relocating about 2 miles of road that are causing unacceptable resource damage in their current locations but provide access to essential management activities and dispersed campsites.

The Cliff Knox Project will also include a variety of project design criteria that serve to mitigate impacts of activities to forest resources, including wildlife, soils, watershed condition, aquatic species, riparian habitat conservation areas, heritage resources, visuals, rangeland, botanical resources, and invasive plants.

Possible Alternatives

A full range of alternatives to the proposed action, including a no action alternative, will be considered. The no action alternative represents no change and serves as the baseline for the comparison of the action alternatives. Alternatives may be developed in response to issues raised by the public during the scoping process or due to additional concerns for resource values identified by the interdisciplinary team.

Forest Plan Amendments

The proposed action may also include the following amendments to the 1990 Malheur National Forest Land and Resource Management Plan (Forest Plan), as amended:

(1) Designating management area 13 (old growth): Old growth changes are needed to maintain consistency with forest plan standards for dedicated and replacement old growth.

(2) Reducing cover below forest plan standards in big-game summer range and winter range: Reduction in satisfactory and/or total cover in big-game summer range and/or big-game winter range. Vegetation management treatments may initially reduce cover levels in some areas; however, these treatments would make it possible to achieve desired vegetative health conditions that may result in more abundant, higher quality cover with reduced insect activity in the future.

(3) Removal of trees greater than or equal to 21 inches diameter at breast height and harvest within late and old structure: Removal of trees greater than or equal to 21 inches diameter at breast height within specific stands with existing aspen and mountain mahogany is proposed to improve the growth of existing aspen and mountain mahogany by reducing competition for sunlight and water from large, young nearby trees, and to move stands with old forest multi-strata structure toward the old forest single-stratum structure that is deficient in the project area.

(4) Not maintaining the current level of connectivity between late and old structure and old growth stands: Reduction in connectivity is proposed because the southern portion of the project area contains pockets of late and old structure stands within areas that developed over mollic soils, an indicator that these areas were grasslands and meadows within their historical range of variability, but are now experiencing encroachment from conifers. Connectivity does not exist in these areas, and therefore cannot be maintained.

When proposing a forest plan amendment, the 2012 Planning Rule (36 CFR 219), as amended, requires the Responsible Official to provide in the initial notice “which substantive requirements of §§ 219. 8 through 219.11 are likely to be directly related to the amendment (§ 219.13(b)(5)).” Whether a rule provision is likely to be directly related to an amendment is determined by the purpose for the amendment, the beneficial effects or adverse effects of the amendment, and informed by the best available scientific information, scoping, effects analysis, monitoring data or other rationale. The following substantive requirements would likely be directly related to the proposed amendments.

Substantive provisions that relate to all proposed amendments include: 219.8(a)(1)(ii) Contributions of the plan area to ecological conditions within the broader landscape influenced by the plan area; 219.8(a)(1)(iv) System drivers, including dominant ecological processes, disturbance regimes, and stressors, such as natural succession, wildland fire, invasive species, and climate change; and the ability of terrestrial and aquatic ecosystems on the plan area to adapt to change; 219.9(a)(1) Ecosystem integrity; 219.9(a)(2) Ecosystem diversity; 219.10(a)(1) Aesthetic values, air quality, cultural and heritage resources, ecosystem services, fish and wildlife species, forage, geologic features, grazing and rangelands, habitat and habitat connectivity, recreation settings and opportunities, riparian areas, scenery, soil, surface and subsurface water quality, timber, trails, vegetation, viewsheds, wilderness, and other relevant resources and uses; 219.10(a)(5) Habitat conditions, subject to the requirements of 219.9, for wildlife, fish, and plants commonly enjoyed and used by the public; for hunting, fishing, trapping, gathering, observing, subsistence, and other activities (in collaboration with federally recognized Tribes, Alaska Native Corporations, other Federal agencies, and State and local governments); and 219.10(a)(8) System drivers, including dominant ecological processes, disturbance regimes, and stressors, such as natural succession, wildland fire, invasive species, and climate change; and the ability of the terrestrial and aquatic ecosystems on the plan area to adapt to change (219.8).

Substantive provisions that relate to the proposed amendments for reducing cover below forest plan standards in big-game summer range and winter range, removal of trees greater than or equal to 21 inches diameter at breast height and harvest within late and old structure, and not maintaining the current level of connectivity between late and old structure and old growth stands include: 219.8(a)(1)(iii) Conditions in the broader landscape that may influence the sustainability of resources and ecosystems within the plan area; 219.8(a)(1)(v) Wildland fire and opportunities to restore fire adapted ecosystems; 219.8(a)(1)(vi) Opportunities for landscape scale restoration; and 219.10(a)(7) Reasonably foreseeable risks to ecological, social, and economic sustainability.

Substantive provisions that relate to the proposed amendments for designating management area 13 (old growth), removal of trees greater than or equal to 21 inches diameter at breast height and harvest within late and old structure, and not maintaining the current level of connectivity between late and old structure and old growth stands include: 219.9(a)(2)(i) Key characteristics associated with terrestrial and aquatic ecosystem types.

Responsible Official

The Forest Supervisor of the Malheur National Forest, 431 Patterson Bridge Road, John Day, OR 97845, is the Responsible Official. The Responsible Official decides if the proposed action will be implemented and documents the decision and rationale for the decision in the record of decision. Responsibility for preparation of the draft EIS and final EIS has been delegated to the District Ranger, Prairie City Ranger District.

Nature of Decision To Be Made

Given the purpose and need of the project, the Responsible Official will review the proposed action, other alternatives, and the environmental effects analysis in order to determine: (1) Which alternative, or combination of alternatives, should be implemented; (2) the location and treatment methods for all proposed activities; (3) the design features, mitigation measures and monitoring requirements; and, (4) consistency with the forest plan and the need for amendments.

Decisions by the Forest Supervisor to approve project-specific plan amendments are subject to the Project-level Predecisional Administrative Review Process of 36 CFR 218 Subpart A, in accordance with 36 CFR 219.59(b). The term “project specific” refers to amendments that would only apply to the proposed project and would not apply to any future management actions.

Per 36 CFR 218.7(a)(2), this is a project proposing to implement a land management plan and is not authorized under the Healthy Forests Restoration Act (HFRA). Therefore, it is subject to both subparts A and B of 36 CFR 218.

Scoping Process

This notice of intent initiates the scoping process, which guides the development of the EIS for the Cliff Knox Project. The interdisciplinary team will continute to seek information and comments from Federal, State, and local agencies, in addition to Tribal governments and other individuals or organizations that may be interested in, or affected by, the proposed action. There is a collaborative group in the area that the interdisciplinary team will interact with during the analysis process.

Public meetings will occur in Prairie City and Burns, Oregon, during the scoping period for the purposes of discussing and gathering comments on the proposed action. Times and locations of scheduled meetings will be advertised through local media outlets and posted on the Malheur National Forest website. The intent of this comment period is to provide those interested in or affected by this proposed action with an opportunity to make their concerns known. Written, hand-delivered, electronic, and facsimile comments concerning this proposed action will be accepted. We invite you to provide any substantive comments you might have regarding the proposed action for the Cliff Knox Project; substantive comments are within the scope of the project and the decision to be made, are specific to the proposed activities and the project area, and have a direct relationship to the project. Please provide supporting reasons for us to consider. If you cite or include references with your comments, you need to state specifically how those references relate to the proposed action. Please include a copy of or an internet link for any references you cite.

It is important that reviewers provide their comments at such times and in such manner that they are useful to the agency's preparation of the EIS. Therefore, comments should be provided prior to the close of the comment period and should clearly articulate the reviewer's concerns and contentions.

Comments received in response to this solicitation, including names and addresses of those who comment, will become part of the public record for this proposed action, and may be released under the Freedom of Information Act. However, comments submitted anonymously will also be accepted and considered.

Dated: June 6, 2018.
Chris French,
Associate Deputy Chief, National Forest System.

[FR Doc. 2018-15491 Filed 7-19-18; 8:45 am]

BILLING CODE 3411-15-P